DEPARTMENT OF STATE

[Public Notice: 9328]

60-Day Notice of Proposed Information Collection: Special Immigrant Visa Biodata Form

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 28, 2015.

ADDRESSES: Direct any comments on this request to Sumitra Siram, Program Officer, Department of State, Bureau of Population, Refugees and Migration, Office of Admissions, 2025 E Street NW., Washington, DC 20522.

You may submit comments by any of the following methods:

• Web: Persons with access to the Internet may comment on this notice by going to www.Regulations.gov. You can search for the document by entering “Docket Number: DOS-2015-0043” in the Search field. Then click the “Comment Now” button and complete the comment form.

• Email: SiramS@state.gov.

• Regular Mail: Send written comments to: PRM/Office of Admissions, 2025 E Street NW 8th Floor, Washington, DC 20255-0908.

• Fax: (202) 453-9393, Attention: Sumitra Siram.

You must include the DS form number (if applicable), information collection title, and the OMB control number in any correspondence.

FOR FURTHER INFORMATION CONTACT: Direct requests for additional information regarding the collection listed in this notice, including requests for copies of the proposed collection instrument and supporting documents, to Sumitra Siram, Program Officer, PRM/Office of Admissions, 2025 E Street NW., Washington, DC 20522-0908, who may be reached on 202-453-9250 or at SiramS@state.gov.

SUPPLEMENTARY INFORMATION:

• Title of Information Collection: Special Immigrant Visa Biodata Form.

• OMB Control Number: 1405-0203.

• Type of Request: Extension of a Currently Approved Collection.

• Originating Office: Office of Admissions, Bureau of Population, Refugees and Migration (PRM/A).

• Form Number: DS—0234.

• Respondents: Iraqi and Afghan immigrant visa applicants.

• Estimated Number of Respondents: 12,000.

• Estimated Number of Responses: 12,000.

• Average Time per Response: 20 minutes.

• Total Estimated Burden Time: 4000 hours.

• Frequency: Once per applicant.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-234 is being added to this collection to elicit information used to determine the eligibility of Iraqis and Afghan nationals applying for special immigrant visas.

Methodology

The SIV Biodata information form (DS-234) is submitted electronically by the applicant to the National Visa Center, which will forward the forms to the Refugee Processing Center of the Bureau of Population, Refugees and Migration.

Simon Henshaw,
Principal Deputy Assistant Secretary, Bureau of Population, Refugees and Migration.

[FR Doc. 2015-27382 Filed 10-26-15; 8:45 am]

BILLING CODE 4710-33-P